DEPARTMENT OF TRANSPORTATION

Federal Aviation Administration

Aviation Rulemaking Advisory Committee Transport Airplane and Engine Issues—New Task

AGENCY: Federal Aviation Administration (FAA), DOT.

ACTION: Notice of new task assignment for the Aviation Rulemaking Advisory Committee (ARAC).

SUMMARY: Notice is given of a new task assigned to and accepted by the Aviation Rulemaking Advisory Committee (ARAC). This notice informs the public of the activities of ARAC.

FOR FURTHER INFORMATION CONTACT: John McGraw, 1601 Lind Ave., Renton, Washington 98055-4056, 425-227-1171, john.mcgraw@faa.gov.

SUPPLEMENTARY INFORMATION:

Background

The FAA has established an Aviation Rulemaking Advisory Committee to provide advice and recommendations to the FAA Administrator, through the Associate Administrator for Regulation and Certification, on the full range of the FAA's rulemaking activities with respect to aviation-related issues.

The Task

This notice is to inform the public that the FAA has asked ARAC to provide advice and recommendations on the following task:

Task: Review the comments received the response to the Notice of Availability of proposed Advisory Circular (AC 39.XX), titled “Continued Airworthiness Assessments of Powerplant and Auxiliary Power Unit Installation on Transport Category Airplanes.” Provide advice and recommendations on the task, recommend disposition of the comments that are inappropriate for incorporation in the proposed AC, and provide recommended revised language, in paragraph form, to address those comments that have merit and warrant incorporation in the proposed AC.

Schedule: The recommendations should be forwarded to the FAA by September 1, 2001.

ARAC Acceptance of Tasks

ARAC has accepted the task and has chosen to assign the tasks to the newly formed Continued Airworthiness Assessments Working Group, Transport Airplane and Engine Issues. The working group will serve as staff to ARAC and assist in the analysis of the assigned task. Working group recommendations must be reviewed and approved by ARAC. If ARAC accepts the working group's recommendations, it forwards them to the FAA as ARAC recommendations.

Working Group Activity

The Continued Airworthiness Assessments Working Group is expected to comply with the procedures adopted by ARAC. As part of the procedures, the working group is expected to:

1. Recommend a work plan for completion of the task, including the rationale supporting such a plan, for consideration at the meeting of the ARAC Transport Airplane and Engine Issues held following publication of this notice.

2. Give a detailed conceptual presentation of the proposed recommendations.

3. Provide a status report at each meeting of the ARAC held to consider Transport Airplane and Engine Issues.

Participation in the working Group

The newly formed Continued Airworthiness Assessment Working Group will be composed of technical experts having an interest in the assigned task. A working group member need not be a representative of a member of the full committee.

An individual who has expertise in the subject matter and wishes to become a member of the working group should write to the person listed under the caption FOR FURTHER INFORMATION CONTACT expressing that desire, describing his or her interest in the task and stating the expertise he or she would bring to the working group. All requests to participate must be received no later than January 20, 2001. The requests will be reviewed by the assistant chair, the assistant executive director, and the working group chair, and the individuals will be advised whether or not the request can be accommodated.

Individuals chosen for membership on the working group will be expected to represent their aviation community segment and participate actively in the working group (e.g., attend all meetings, provide written comments when requested to do so, etc.). They also will be expected to devote the resources necessary to support the ability of the working group in meeting any assigned deadlines. Members are expected to keep their management chain and those they may represent advised of working group activities and decisions to ensure that the agreed technical solutions do not conflict with their sponsoring organization's position when the subject being negotiated is presented to ARAC for approval.

Once the working group has begun deliberations, members will not be added or substituted without the approval of the assistant chair, the assistant executive director, and the working group chair.

The Secretary of Transportation has determined that the formation and use of the ARAC is necessary and in the public interest in connection with the performance of duties imposed on the FAA by law.

Meetings of the ARAC will be open to the public. Meetings of the Continued Airworthiness Assessments Working Group will not be open to the public, except to the extent that individuals with an interest and expertise are selected to participate. No public announcement of working group meetings will be made.

Dated: Issued in Washington, DC, on December 21, 2000.
Anthony F. Fazio,
Executive Director, Aviation Rulemaking Advisory Committee.

[FR Doc. 00-32955 Filed 12-21-00; 4:43 pm]

BILLING CODE 4910-13-M